DEPARTMENT OF LABOR

Employment and Training Administration

[TA-W-50,417]

ABM Brevard, NC; Notice of Termination of Investigation

Pursuant to Section 221 of the Trade Act of 1974, as amended, an investigation was initiated on January 2, 2003, in response to a petition filed by a company official on behalf of workers at ABM, Brevard, North Carolina.

The petitioner has requested that the petition be withdrawn. Consequently, further investigation would serve no purpose, and the investigation has been terminated.

Signed at Washington, DC this 10th day of March, 2003.
Linda G. Poole,
Certifying Officer, Division of Trade Adjustment Assistance.

[FR Doc. 03-7201 Filed 3-26-03; 8:45 am]

BILLING CODE 4510-30-P